FEDERAL MARITIME COMMISSION

Notice of Agreements Filed

The Commission hereby gives notice of the filing of the following agreements under the Shipping Act of 1984. Interested parties may submit comments on the agreement to the Secretary, Federal Maritime Commission, Washington, DC 20573, within twelve days of the date this notice appears in the Federal Register. A copy of the agreement is available through the Commission's Web site (www.fmc.gov) or by contacting the Office of Agreements at (202) 523-5793 or tradeanalysis@fmc.gov.

Agreement No.: 010099-065.

Title: International Council of Containership Operators.

Parties: China COSCO Shipping Corporation Limited; CMA CGM S.A., ANL Singapore Pte Limited, American President Lines, Ltd., and APL Co. Pte. Ltd. (acting as a single party); Crowley Maritime Corp.; Evergreen Marine Corporation (Taiwan), Ltd.; Hamburg Süd also operating under the trade name of Compania Chilena de Navegacion Interoceanica; Hapag-Lloyd AG, Hapag-Lloyd USA LLC and United Arab Shipping Company Limited (acting as a single party); Hyundai Merchant Marine Co., Ltd.; Kawasaki Kisen Kaisha, Ltd.; Maersk Line A/S; MSC Mediterranean Shipping Company S.A.; Mitsui O.S.K. Lines, Ltd.; Nippon Yusen Kaisha; Orient Overseas Container Line, Ltd.; Pacific International Lines (Pte) Ltd.; Wan Hai Lines Ltd.; Yang Ming Transport Marine Corp.; and Zim Integrated Shipping Services Ltd.

Filing Party: Sarah Beason, Esq.; K & L Gates LLP; 1601 K Street NW.; Washington, DC 20006-1600.

Synopsis: The amendment updates the membership of the Agreement to reflect the recent merger of Hapag-Lloyd and United Arab Shipping Company.

Agreement No.: 011275-039.

Title: Australia and New Zealand-United States Discussion Agreement.

Parties: CMA CGM, S.A. and ANL Singapore Pte Ltd. (acting as a single party); Hamburg-Süd KG; and MSC Mediterranean Shipping Company S.A.

Filing Party: Wayne R. Rohde, Esq.; Cozen O'Connor LLP; 1200 Nineteenth St. NW.; Washington, DC 200036.

Synopsis: The amendment deletes MSC Mediterranean Shipping Company S.A. as a party to the Agreement, and makes corresponding revisions to Appendix B of the Agreement.

Agreement No.: 011962-013.

Title: Consolidated Chassis Management Pool Agreement.

Parties: The Ocean Carrier Equipment Management Association and its member lines; the Association's subsidiary Consolidated Chassis Management LLC and its affiliates; CCM Holdings LLC; CCM Pools LLC and its subsidiaries; Matson Navigation Co.; and Westwood Shipping Lines.

Filing Party: Jeffrey F. Lawrence and Donald J. Kassilke; Cozen O'Connor; 1200 19th Street NW.; Washington, DC 20036.

Synopsis: The amendment makes various updates to the membership of the Agreement.

Agreement No.: 012223-001.

Title: Assessment Agreement of Carrier Members of United States Maritime Alliance, Ltd.

Parties: APL, Ltd.; Atlantic Container Line; CMA CGM Group; Columbia Coastal Transport; COSCO Container Lines Americas, Inc.; Evergreen Shipping Agency (America) Corp.; Hamburg Sud North America, Inc.; Hapag-Lloyd (America), Inc; Hyundai Merchant Marine (America), Inc.; “K” Line America; Maersk Agency USA, Inc.; Mediterranean Shipping Company, USA Inc.; MOL (America) Inc.; NYK Line (North America), Inc; OOCL (USA), Inc.; Turkon America, Inc.; Wallenius Wilhelmsen Logistics Americas, LLC; Yang Ming (America) Corp.; and Zim American Integrated Shipping Services Company, Inc.

Filing Party: William M. Spelman; The Lambos Firm, LLP; 303 South Broadway, Suite 410; Tarrytown, NY 10591.

Synopsis: The amendment updates the membership of the Agreement.

Agreement No.: 012487.

Title: Eastern Car Liner Ltd/Austral Asia Line Pte. Ltd Space Charter Agreement.

Parties: Austral Asia Line Pte. Ltd. and Eastern Car Liner, Ltd.

Filing Party: Neal Mayer; Hoppel, Mayer & Coleman; 1050 Connecticut Ave NW.; Fifth Floor; Washington, DC 20036.

Synopsis: The Agreement authorizes Austral Asia Line to charter space for the carriage of breakbulk and ro/ro shipments to Eastern Car Liner in the U.S. trades served by Austral Asia, which would be mainly the Far East/U.S. Transpacific trade.

By Order of the Federal Maritime Commission.
Dated: July 14, 2017.
Rachel E. Dickon,
Assistant Secretary.

[FR Doc. 2017-15163 Filed 7-18-17; 8:45 am]

BILLING CODE 6731-AA-P